DEPARTMENT OF AGRICULTURE

Forest Service

Lincoln National Forest; New Mexico; Perk-Grindstone III Hazardous Fuel Reduction Project

AGENCY: Forest Service, USDA.

ACTION: Notice of intent to prepare an Environmental Impact Statement; Correction.

SUMMARY: On September 22, 2006, the Federal Register published a Notice of Intent (NOI) to prepare an Environmental Impact Statement (EIS) for the Perk-Grindstone III Hazardous Fuel Reduction Project on the Lincoln National Forest, Smokey Bear Ranger District (71 FR 55419-55421). That document estimated that the Draft Environmental Impact Statement would be available February 2007, and would require a single forest plan amendment, correction of both the estimated date and the number of forest plan amendments is necessary.

Correction: In the Federal Register of September 22, 2006, in FR Doc. 71-184, on page 55419, in the first column, correct the DATES caption, second sentence to read:

The draft EIS is expected to be available for public review in January 2008 and the final EIS is expected to be published in June 2008.

In the Federal Register of September 22, 2006, in FR Doc. 71-184, on page 55419, in the third column, additional information must be added to the Proposed Action caption, first and second paragraph to read:

Proposed forest management work includes noncommercial thinning, commercial thinning involving removal of logs and slash by ground-based skidding or helicopter, ground-based machine work and hand work to pile thinning slash, and slash-pile burning or broadcast burning to dispose of or reduce woody fuels. On existing roads used to support these treatments, maintenance work including forestry best management practices would be performed. Up to 14 miles of road may be constructed or reconstructed, these road will be developed to facilitate proper ground-based skidding and access log-landing areas. Upon completion of logging and other mechanized treatments, temporary roads would be rehabilitated and closed. The remaining roads, needed for long term access would be closed by installing gates or other barriers at road entrances to eliminate motor vehicle use on the road (Forest Plan, p. 47). Closed roads may be reopened when needed for subsequent fuel reduction or other management activities, and then closed following completion of that activity (Forest Plan, p. 37). Closed roads may be used as trails for hiking, mountain biking and horseback-riding. The proposed forest management treatments and roadwork integrated various detail design-features to conserve cultural or historical sites, air quality, soil, water quality, wildlife, native plants and trees, scenery, and recreation.

To achieve desired conditions for the area, the proposed action involves some removal of commercial-size trees from areas of protected habitat of the Mexican spotted owl, a threatened species. Under the current forest plan as amended, these treatments to reduce fuels near urban areas are anticipated; nonetheless, they are a departure from the forestwide standards and guidelines adopted to implement the recovery plan for this species. Additionally, the proposed action will remove canopy cover within Northern goshawk post-fledging areas. Northern goshawk is a Regional Forester sensitive species. These areas may not meet forest plan standards and guidelines for canopy cover. Forest plan standards and guidelines also restrict operation of wheeled of tracked logging equipment to slopes of less than 40%. Operation of logging equipment on slopes in excess of 40% is anticipated under one or more alternatives. Vegetative removal and road construction is likely to be clearly evident, for approximately 10 years, within the project area. The forest plan standards and guidelines for the Visual Quality Objective (VQO) within the project area specify that the area should be managed with a VQO of Retention. Under a Retention VQO, forest management activities may be visible but not clearly evident to the average viewer. Disturbances must appear to be from natural causes. Therefore, to ensure project consistency with the forest plan, the plan would be amended at the same time as and in conjunction with the approval of an action alternative, should one be selected, that involve similar departure form current standards and guidelines to conserve Mexican spotted owl, Northern goshawk, visual quality and limitations on activities on slopes over 40%. The plan amendments would be limited to apply only to the Perk-Grindstone III hazardous fuel reduction project area and its approved activities (36 CFR 219.8(e)).

FOR FURTHER INFORMATION CONTACT: Buck Sanchez, District Ranger, Smokey Bear Ranger District, Lincoln National Forest, 901 Mechem, Ruidoso, NM 88345, telephone (505) 257-4095.

Dated: September 10, 2007.
S.E. “Lou” Woltering,
Forest Supervisor.

[FR Doc. 07-4582 Filed 9-14-07; 8:45 am]

BILLING CODE 3410-11-M